DEPARTMENT OF COMMERCE

International Trade Administration

[A-570-601]

Tapered Roller Bearings and Parts Thereof, Finished and Unfinished, From the People's Republic of China: Final Results of Antidumping Duty Administrative Review; 2021-2022

AGENCY: Enforcement and Compliance, International Trade Administration, Department of Commerce.

SUMMARY: The U.S. Department of Commerce (Commerce) determines that Shanghai Tainai Bearing Co., Ltd. (Tainai) sold tapered roller bearings and parts thereof, finished and unfinished, (TRBs) from the People's Republic of China (China) at less than normal value (NV) during the period of review (POR), June 1, 2021, through May 31, 2022.

DATES: Applicable January 10, 2024.

FOR FURTHER INFORMATION CONTACT: Jerry Xiao, AD/CVD Operations, Office II, Enforcement and Compliance, International Trade Administration, U.S. Department of Commerce, 1401 Constitution Avenue NW, Washington, DC 20230; telephone: (202) 482-2273.

SUPPLEMENTARY INFORMATION:

Background

On July 7, 2023, Commerce published in the Federal Register the Preliminary Results ¹ of the 2021-2022 administrative review of the antidumping duty (AD) order on TRBs from China ² and invited interested parties to comment.³ Subsequent to the Preliminary Results, we received a case brief from Tainai and a rebuttal brief from the Timken Company (the petitioner).⁴ On October 6, 2023, in accordance with section 751(a)(3)(A) of the Tariff Act of 1930, as amended (the Act), Commerce extended the deadline for issuing these final results until January 3, 2024.⁵ For a complete description of the events that occurred since the Preliminary Results, see the Issues and Decision Memorandum.⁶

¹ See Tapered Roller Bearings and Parts Thereof, Finished and Unfinished, from the People's Republic of China: Preliminary Results and Partial Rescission of Antidumping Duty Administrative Review; 2021-2022, 88 FR 43290 (July 7, 2023) (Preliminary Results), and accompanying Preliminary Decision Memorandum (PDM).

² See Tapered Roller Bearings and Parts Thereof, Finished or Unfinished, from the People's Republic of China, 52 FR 22667 (June 15, 1987), as amended in Tapered Roller Bearings from the People's Republic of China; Amendment to Final Determination of Sales at Less Than Fair Value and Antidumping Duty Order in Accordance with Decision Upon Remand, 55 FR 6669 (February 26, 1990) (collectively, Order).

³ See Preliminary Results, 88 FR at 43290.

⁴ See Tainai's Letter, “Case Brief,” dated August 7, 2023; and Petitioner's Letter, “Rebuttal Brief,” dated August 14, 2023.

⁵ See Memorandum, “Extension of Deadline for Final Results of Antidumping Duty Administrative Review,” dated October 6, 2023.

⁶ See Memorandum, “Decision Memorandum for the Final Results of the 2021-2022 Administrative Review of the Antidumping Duty Order on Tapered Roller Bearings and Parts Thereof, Finished and Unfinished, from the People's Republic of China,” dated concurrently with, and hereby adopted by, this notice (Issues and Decision Memorandum).

Scope of the Order

The merchandise covered by the Order is tapered roller bearings and parts thereof, finished and unfinished, from China. A full description of the scope of the Order is contained in the Issues and Decision Memorandum.⁷

⁷ Id.

Analysis of Comments Received

All issues raised in case and rebuttal briefs filed by parties in this administrative review are addressed in the Issues and Decision Memorandum and are listed in the appendix to this notice. The Issues and Decision Memorandum is a public document and on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding our Preliminary Results, and for the reasons explained in the Issues and Decision Memorandum, we made certain changes to the margin calculations for Tainai and updated the rate assigned to the non-examined, separate-rate respondent, Zhejiang Jingli Bearing Technology Co., Ltd. (Jingli).⁸

⁸ Id.

Rate for Non-Examined Separate Rate Respondent

In the Preliminary Results, we determined that Jingli demonstrated its eligibility for a separate rate. We did not receive any comments or argument since the issuance of the Preliminary Results that provide a basis for reconsideration of this determination. Therefore, for these final results, we continue to find that Jingli is eligible for a separate rate.

The statute and our regulations do not address the establishment of a rate to be assigned to respondents not selected for individual examination when we limit our examination of companies subject to the administrative review pursuant to section 777A(c)(2)(B) of the Act. Generally, we look to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available}.” Accordingly, in the final results of review, we are assigning to Jingli, the estimated weighted-average margin calculated for Tainai, the sole mandatory respondent in this review.

Final Results of Review

For the companies subject to this review that established their eligibility for a separate rate, Commerce determines that the following estimated weighted-average dumping margins exist for the period June 1, 2021, through May 31, 2022:

Exporter | Weighted- average dumping margin (percent)
Shanghai Tainai Bearing Co., Ltd | 24.78
Zhejiang Jingli Bearing Technology Co., Ltd | 24.78

Disclosure

Commerce intends to disclose the calculations performed in connection with these final results of review to interested parties within five days after public announcement of the final results or, if there is no public announcement, within five days of the date of publication of the notice of final results in the Federal Register, in accordance with 19 CFR 351.224(b).

China-Wide Entity

In the Preliminary Results, we found that C&U Group Shanghai Bearing Co., Ltd. (C&U Group), Hangzhou C&U Automotive Bearing Co., Ltd. (C&U Automotive), Hangzhou C&U Metallurgy Bearing Co., Ltd. (C&U Metallurgy), Huangshi C&U Bearing Co., Ltd. (Huangshi C&U), and Sichuan C&U Bearing Co., Ltd. (Sichuan C&U) failed to rebut de facto and de jure control by the Government of China.⁹ We received no comments on this decision for these final results. Accordingly, we continue to find that C&U Group, C&U Automotive, C&U Metallurgy, Huangshi C&U, and Sichuan C&U are not eligible for a separate rate and are, therefore, part of the China-wide entity.

⁹ See Preliminary Results PDM at 9-11.

Under Commerce's current policy regarding the conditional review of the China-wide entity, the China-wide entity will not be under review unless a party specifically requests, or Commerce self-initiates, a review of the entity.¹⁰ Because no party requested a review of the China-wide entity in this review, the entity is not under review, and the entity's rate is not subject to change (i.e., 92.84 percent).¹¹

¹⁰ See Antidumping Proceedings: Announcement of Change in Department Practice for Respondent Selection in Antidumping Duty Proceedings and Conditional Review of the Nonmarket Economy Entity in NME Antidumping Duty Proceedings, 78 FR 65963 (November 4, 2013).

¹¹ See Tapered Roller Bearings and Parts Thereof, Finished and Unfinished, from the People's Republic of China: Final Results of Antidumping Duty Administrative Review, 74 FR 3987, 3989 (January 22, 2009).

Assessment Rates

Pursuant to section 751(a)(2)(A) of the Act, and 19 CFR 351.212(b)(1), Commerce intends to determine, and U.S. Customs and Border Protections (CBP) shall assess, antidumping duties on all appropriate entries of subject merchandise in accordance with the final results of this review.

For Tainai, Commerce will calculate importer-specific assessment rates for antidumping duties, in accordance with 19 CFR 351.212(b)(1). Where the respondent reported reliable entered values, Commerce intends to calculate importer-specific ad valorem assessment rates by aggregating the amount of dumping calculated for all U.S. sales to the importer and dividing this amount by the total entered value of the merchandise sold to the importer.¹² Where the respondent did not report entered values, Commerce will calculate importer-specific assessment rates by dividing the amount of dumping for reviewed sales to the importer by the total quantity of those sales. Commerce will calculate an estimated ad valorem importer-specific assessment rate to determine whether the per-unit assessment rate is de minimis; however, Commerce will use the per-unit assessment rate where entered values were not reported.¹³ Where an importer-specific ad valorem assessment rate is not zero or de minimis, Commerce will instruct CBP to collect the appropriate duties at the time of liquidation. Where either the respondent's weighted average dumping margin is zero or de minimis, or an importer-specific ad valorem assessment rate is zero or de minimis, Commerce will instruct CBP to liquidate appropriate entries without regard to antidumping duties.

¹² See 19 CFR 351.212(b)(1).

¹³ Id.

For Jingli, the non-selected separate rate respondent, we will direct CBP to assess antidumping duties at a rate equal to the weighted-average dumping margin determined for Tainai in these final results.

Commerce determined that C&U Group, C&U Automotive, C&U Metallurgy, Huangshi C&U, and Sichuan C&U did not qualify for a separate rate. Therefore, we will instruct CBP to assess antidumping duties on entries of subject merchandise from these entities at 92.84 percent, the established weighted-average dumping margin for the China-wide entity.

Cash Deposit Requirements

The following cash deposit requirements will be effective upon publication of the final results of this administrative review for shipments of the subject merchandise from China entered, or withdrawn from warehouse, for consumption on or after the publication date of the final results of this administrative review, as provided by section 751(a)(2)(C) of the Act: (1) the cash deposit rate for the companies subject to this review will be the rate established in the final results of this review; (2) for previously investigated or reviewed Chinese and non-Chinese exporters not listed above that currently have a separate rate, the cash deposit rate will continue to be the exporter-specific rate published for the most recently completed segment of this proceeding where the exporter received that separate rate; (3) for all Chinese exporters of subject merchandise that have not been found to be entitled to a separate rate, the cash deposit rate will be the rate for the China-wide entity, 92.84 percent; ¹⁴ and (4) for all non-Chinese exporters of subject merchandise that have not received their own separate rate, the cash deposit rate will be the rate applicable to the Chinese exporter that supplied that non-Chinese exporter.

¹⁴ See Order.

These deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and terms of an APO is a violation subject to sanction.

Notification to Interested Parties

We are issuing and publishing these final results of administrative review in accordance with sections 751(a)(1) and 777(i)(1) of the Act and 19 CFR 351.221(b)(5) and 19 CFR 351.213(h)(2).

Dated: January 3, 2024.
Abdelali Elouaradia,
Deputy Assistant Secretary for Enforcement and Compliance.

Appendix

List of Topics Discussed in the Issues and Decision Memorandum

I. Summary

II. Background

III. Scope of the Order

IV. Discussion of the Issues

Comment 1: Application of Partial Adverse Facts Available to Tainai

Comment 2: Deduction of Section 301 Duties

Comment 3: Capping Section 301 Duty Payments

Comment 4: Differential Pricing Analysis

V. Recommendation

[FR Doc. 2024-00304 Filed 1-9-24; 8:45 am]

BILLING CODE 3510-DS-P